NATIONAL AERONAUTICS AND SPACE ADMINISTRATION

[Notice 13-029]

Privacy Act of 1974; Privacy Act System of Records

AGENCY: National Aeronautics and Space Administration (NASA).

ACTION: Notice of Privacy Act system of records.

SUMMARY: Each Federal agency is required by the Privacy Act of 1974 to publish a description of a system of records containing personal information it establishes and maintains. This notice provides notification that NASA has established an internal system of records pertaining to carpool, parking, and other aspects of employee transit and transit benefits.

DATES: Submit comments within 60 calendar days from the date of this publication.

ADDRESSES: Patti F. Stockman, Privacy Act Officer, Office of the Chief Information Officer, National Aeronautics and Space Administration Headquarters, Washington, DC 20546-0001, (202) 358-4787, NASA-PAOfficer@nasa.gov.

FOR FURTHER INFORMATION CONTACT: NASA Privacy Act Officer, Patti F. Stockman, (202) 358-4787, NASA-PAOfficer@nasa.gov.

NASA 10PATS

SYSTEM NAME:

Parking and Transit System (PATS)

SECURITY CLASSIFICATION:

None.

SYSTEM LOCATION:

Locations 1 and 4, as set forth in Appendix A.

CATEGORIES OF INDIVIDUALS COVERED BY THE SYSTEM:

This system maintains information on NASA civil servants and contractors who are holders of parking permits; applicants or members of carpools, vanpools and other ridesharing programs; applicants and recipients of fare subsidies issued by NASA; and applicants for other NASA transit benefit programs.

CATEGORIES OF RECORDS IN THE SYSTEM:

Records in this system may include information about individuals, including name, home address, badge number, monthly commuting cost, email address, years of government service, grade, personal vehicle make and model, and person vehicle license number. These records may be captured as parking, rideshare, or other transit program applications, status or participation reports of individuals' participation in the programs.

AUTHORITY FOR MAINTENANCE OF THE SYSTEM:

51 U.S.C. 20113(a); 44 U.S.C. 3101; 40 U.S.C. Section 471; and, 40 U.S.C. Section 486.

ROUTINE USES OF RECORDS MAINTAINED IN THE SYSTEM, INCLUDING CATEGORIES OF USERS AND THE PURPOSES OF SUCH USES:

Any disclosures of information will be compatible with the purpose for which the Agency collected the information, which is the issuance of NASA Parking Permits and NASA Fare Subsidies.

Records in this system may be disclosed:

1. To other Federal agencies to confirm that an individual is not receiving transit benefits from multiple agencies concurrently.

2. In accordance with the NASA Standard Routine Uses as listed in Appendix B.

POLICIES AND PRACTICES FOR STORING, RETRIEVING, ACCESSING, RETAINING, AND DISPOSING OF RECORDS IN THE SYSTEM:

STORAGE:

Records are stored in hard copy and electronically in systems on secure NASA servers.

RETRIEVABILITY:

Records are retrieved by name or by zip code of residence.

SAFEGUARDS:

Hard copy records are kept in locked cabinets. Electronic records are maintained in NASA systems with approved security plans established in accordance with OMB Circular A-130, Management of Federal Information Resources. Only key authorized employees in parking and fare subsidy management offices whose official duties require access and who possess appropriately configured system roles have access to the systems in accordance with approved authentication methods can access the system.

RETENTION AND DISPOSAL:

Records are maintained and disposed of in accordance with NASA Records Retention Schedule 6, Item 11 and General Records Schedule 9, Item 7.

SYSTEM MANAGER(S) AND ADDRESS:

Transportation Officer, Headquarters Facilities and Administrative Services Division, Location 1, as set forth in Appendix A.

Subsystem Manager: Transportation Subsidy Program Lead, Logistics Management Division, Location 4, as set forth in Appendix A.

NOTIFICATION PROCEDURE:

Individuals interested in inquiring about their records should notify the System Manager or Subsystem Manager at the addresses given above.

RECORD ACCESS PROCEDURES:

Individuals who wish to gain access to their records should submit their request in writing to the System Manager or Subsystem Manager at the address given above.

CONTESTING RECORD PROCEDURES:

The NASA regulations governing access to records and procedures for contesting the contents and for appealing initial determinations are set forth in 14 CFR Part 1212.

RECORD SOURCE CATEGORIES:

Information is provided by individuals in applications submitted for parking permits, carpool and vanpool membership, ridesharing information, and fare subsidies.

EXEMPTIONS CLAIMED FOR THE SYSTEM:

None.

Linda Cureton,
NASA Chief Information Officer.

[FR Doc. 2013-07581 Filed 4-1-13; 8:45 am]

BILLING CODE 7510-13-P